DEPARTMENT OF ENERGY

Federal Energy Regulatory Commission

[Docket No. RP01-77-000]

Midwestern Gas Transmission Company; Notice of Tariff Filing

November 9, 2000.

Take notice that on November 2, 2000, Midwestern Gas Transmission (Midwestern), tendered for filing as part of its FERC Gas Tariff, Second Revised Volume No. 1, the following revised tariff sheets, with an effective date of December 1, 2000:

Second Revised Sheet No. 60

Sixth Revised Sheet No. 61

Midwestern states that the purpose of this filing is to revise its tariff in order to incorporate GISB Standards' language and terms. Further, Midwestern states the revisions will bring Midwestern's Tariff more in-line with standard practices across the interstate pipeline grid.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at @http://www.ferc.fed.us/efi/doorbell.htm.

Linwood A. Watson, Jr.,
Acting Secretary.

[FR Doc. 00-29333 Filed 11-15-00; 8:45 am]

BILLING CODE 6717-01-M